DEPARTMENT OF DEFENSE

Department of the Navy

Notice of Intent To Prepare an Environmental Impact Statement/Overseas Environmental Impact Statement for Hawaii-Southern California Training and Testing and Notice of Public Scoping Meetings

AGENCY: Department of the Navy, DoD.

ACTION: Notice.

SUMMARY: Pursuant to section 102(2)(c) of the National Environmental Policy Act (NEPA) of 1969, as implemented by the Council on Environmental Quality Regulations (40 Code of Federal Regulations [CFR] parts 1500-1508), and Executive Order (EO) 12114, the Department of the Navy (Navy) announces its intent to prepare an Environmental Impact Statement (EIS)/Overseas EIS (OEIS) to evaluate the potential environmental effects associated with continuing to conduct military readiness activities, which consist of training activities and research, development, testing, and evaluation (hereinafter referred to as “testing”) activities in the Hawaii-Southern California Training and Testing (HSTT) Study Area. The Study Area consists of the in-water areas of the Southern California (SOCAL) Range Complex (including San Diego Bay); in-water areas of Silver Strand Training Complex (SSTC); the Hawaii Range Complex (HRC); areas on the high seas where training and sonar testing and maintenance may occur during vessel transit between the Hawaii and Southern California Range Complexes; the Temporary Operating Area north and west of the Hawaii Range Complex; and specific Navy pierside, port, and harbor locations.

In order to achieve and maintain military readiness, the Navy proposes to:

• Conduct training and testing activities at levels required to support Navy military readiness requirements beginning in December 2018 into the reasonably foreseeable future; and

• Accommodate evolving mission requirements associated with force structure changes, including those resulting from the development, testing, and ultimate introduction of new platforms (vessels, aircraft, and weapon systems) into the fleet; thereby ensuring critical Navy requirements are met.

As part of this process the Navy will seek to obtain authorization and permitting, as required under the Marine Mammal Protection Act and Endangered Species Act, respectively.

The Navy invites comments on the scope and content of the EIS/OEIS from all interested parties. Comments may be provided by mail and through the EIS/OEIS Web site at: http://www.hstteis.com. Mailed comments must be postmarked no later than January 16, 2016 and mailed to the address below to ensure they are considered.

In addition, the Navy will conduct public scoping meetings to obtain comments on the scope of the EIS/OEIS and to identify specific environmental concerns or topics for consideration in the document.

DATES: Dates and Addresses: Three public scoping meetings will be held on:

1. Tuesday, December 1, 2015, 5:00-8:00 p.m., Marina Village Conference Center Starboard Room, 1936 Quivira Way, San Diego, CA 92109

2. Thursday, December 3, 2015, 5:00-8:00 p.m., Island School Main Hall, 3-1901 Kaumuali'i Highway Lihue, Kauai, HI 96766

3. Saturday, December 5, 2015, 11:00-2:00 p.m., Ke'ehi Lagoon Memorial, 2685 N. Nimitz Highway, Honolulu, HI 96819

The scoping meetings will consist of an informal, open-house session with informational stations staffed by Navy representatives. Meeting details will be announced in local newspapers. Additional information on the public scoping meetings will be available on the EIS/OEIS Web page located at: http://www.hstteis.com.

FOR FURTHER INFORMATION CONTACT: Nora Macariola-See, Naval Facilities Engineering Command, Pacific. Attention: HSTT EIS/OEIS, 258 Makalapa Drive, Suite 100, Pearl Harbor, HI 96860-3134. 808-472-1402.

SUPPLEMENTARY INFORMATION: The Navy's lead action proponent is Commander, United States Pacific Fleet. Additional action proponents include Naval Sea Systems Command (NAVSEA), Naval Air Systems Command (NAVAIR), Space and Naval Warfare Systems Command (SPAWAR), and the Office of Naval Research (ONR). The Proposed Action is to conduct military readiness activities in the HSTT Study Area. These training and testing activities are generally consistent with those analyzed in the HSTT EIS/OEIS completed in August 2013 and are representative of training and testing that the Navy has been conducting in the HSTT Study Area for decades.

The HSTT EIS/OEIS Study Area includes the HRC, the SOCAL Range Complex, in-water areas of SSTC, and San Diego Bay. It also includes the transit corridor between the HRC and the SOCAL Range Complex, as well as the Temporary Operating Area north and west of the HRC. Analysis will include in-water areas and activities, including pierside locations and harbors.

Pursuant to 40 CFR 1501.6, the Navy will invite the National Marine Fisheries Service to be a cooperating agency in preparation of the EIS/OEIS.

The purpose of the Proposed Action is to maintain a ready force, which is needed to ensure that the Navy can meet its mission to maintain, train, and equip combat-ready naval forces capable of winning wars, deterring aggression, and maintaining freedom of the seas, consistent with Congressional direction in section 5062 of Title 10 of the U.S. Code.

The HSTT Phase III EIS/OEIS will consider a No Action Alternative and action alternatives that account for levels of training and testing activities beginning in December 2018 as necessary to meet future readiness requirements. Refurbishment of existing undersea instrumented ranges is also being considered.

Resource areas that will be addressed include, but are not limited to, biological resources (including marine mammals and threatened and endangered species), sediments and water quality, air quality, noise, cultural resources, socioeconomic resources, and public health and safety.

The scoping process will be used to identify community concerns and local issues to be addressed in the EIS/OEIS. Federal agencies, state agencies, local agencies, Native American Indian Tribes and Nations, Native Hawaiian Organizations, the public, and interested persons are encouraged to provide comments to the Navy to identify specific issues or topics of environmental concern that the commenter believes the Navy should consider. All comments provided orally or in writing at the scoping meetings will receive the same consideration during EIS/OEIS preparation.

Written comments must be postmarked no later than January 12, 2016 to ensure they are considered in the development of the EIS/OEIS and be mailed to: Naval Facilities Engineering Command, Pacific, 258 Makalapa Drive, Suite 100, Pearl Harbor, HI 96860-3134, Attention: HSTT EIS/OEIS Project Manager. Comments also can be submitted electronically by January 12, 2016 via the project Web site at http://www.hstteis.com.

Dated: November 5, 2015.
N.A. Hagerty-Ford,
Commander, Judge Advocate General's Corps, U.S. Navy, Federal Register Liaison Officer.

[FR Doc. 2015-28748 Filed 11-10-15; 8:45 am]

BILLING CODE 3810-FF-P